DEPARTMENT OF THE INTERIOR

National Park Service

National Register of Historic Places; Notification of Pending Nominations

Nominations for the following properties being considered for listing in the National Register were received by the National Park Service before November 8, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 17, 2003.

Carol D. Shull,
Keeper of the National Register of Historic Places.

Florida

Lee County

Punta Gorda Fish Company Cabin (Fish Cabins of Charlotte Harbor MPS),Pines Island Sound, Bokeelia, 03001289

Indiana

Lake County

First National Bank and Trust Company, 720 W. Chicago Ave., East Chicago, 03001291

Iowa

Scott County

Crescent Warehouse Historic District, portions of E. 4th St., E. 5th St., Iowa St. and Pershing Ave., Devenport, 03001290

Maryland

Baltimore Independent City

Hochschild, Kohn Belvedere and Hess Shoes, 5911 York Rd. and 510 Belvedere Ave., Baltimore (Independent City), 03001296

Oakenshawe Historic District, roughly bounded by York Rd., University Pkwy., Calvert St., and Southway, Baltimore (Independent City), 03001293

Queen Anne's County

Stratton, 3102 Ruthsburg Rd., Centreville, 03001294

Washington County

Leitersburg Historic District, Leitersburg-Smithsburg Rd., Leiter St., Leiter's Mill Rd., Ringgold St., Leitersburg, 03001295

Rockledge, 13535 Foxfire Ln., Hagerstown, 03001292

Montana

Custer County

Shore, Thomas and Beulah, House, 602 S. Strevell Ave., Miles City, 03001299

Lewis and Clark County

Dearborn River High Bridge, 15 mi. SW. of Augusta on Bean Lake Rd., Augusta, 03001298

Missoula County

Reid House, 526 E. Front, Missoula, 03001297

New Jersey

Camden County

St. Joseph Polish Catholic Church, 1010 Liberty St., Camden City, 03001307

Salem County

Alloways Creek Friends Meetinghouse, Buttonwood Ave, 150 ft. W. of Main St., Hancock's Bridge, 03001306

New York

Dutchess County

Quaker Lane Farms, 11 Ruskey Ln., Hyde Park, 03001303

New York County

Corbin Building, 192 Broadway, New York, 03001302

Onondaga County

Brook Farm, 2870 W. Lake Rd., Skaneateles, 03001304

North Carolina

Wake County

Wake Forest Historic District (Wake County MPS), Bounded by Oak St., RR tracks, Holding St., W. Vernon Ave., S. Wingate, N. Wingate, Durham Rd. and N. College Sts., Wake Forest, 03001301

West Raleigh Historic District, Roughly bounded by Mayview Rd., Enterprise St., Hillsbourgh St. and Faircloth St., Raleigh, 03001300

Tennessee

Madison County

Oakslea Place, 1210 N. Highland Ave., Jackson, 03001305

Vermont

Caledonia County

Peacham Corner Historic District, Bayley Hazen Rd., Main St., Church St., Academy Hill, Old Cemetery Rd., Macks Mountain Rd., Peacham, 03001308

[FR Doc. 03-29878 Filed 12-1-03; 8:45 am]

BILLING CODE 4312-51-P